DEPARTMENT OF THE INTERIOR

Bureau of Land Management

[OR-030-00-1020-XU: GPO-0108]

Notice of Meeting of John Day/Snake Resource Advisory Council

AGENCY: Vale District, Bureau of Land Management, Interior.

ACTION: Meeting of John Day/Snake Resource Advisory Council: Pendleton, Oregon; March 30 & 31, 2000.

SUMMARY: A meeting of the John Day/Snake Resource Advisory Council will be held on March 30, 2000 from 8:00 a.m. to 5:00 p.m. and on March 31, 2000 from 7:30 a.m. to 3:00 p.m. at the Red Lion (formerly Doubletree) Inn, 304 SE Nye Avenue, Pendleton, Oregon. The meeting is open to the public. Public comments will be received at 10:00 a.m. on March 31, 2000. Topics to be discussed by the council will include: John Day River Plan update; Social Circle Map; Hells Canyon Subgroup update; ICBEMP update; status of roadless area review, range program status report for BLM & Forest Service offices; T&E presentation on listing process of lynx, wolf and sage grouse; discuss the need for or benefits of a future joint meeting of the three Oregon/Washington councils; and a 15 minute round table for general issues.

FOR FURTHER INFORMATION CONTACT: Juan Palma, Bureau of Land Management, Vale District Office, 100 Oregon Street, Vale, Oregon 97918, Telephone (541) 473-3144.

Juan Palma,
District Manager.

[FR Doc. 00-3108 Filed 2-9-00; 8:45 am]

BILLING CODE 4310-33-M